DEPARTMENT OF JUSTICE

Notice of Lodging Proposed Consent Decree

In accordance with Departmental Policy, 28 CFR 50.7, notice is hereby given that a proposed consent decree in United States v. Synergy Development, Inc., Civil Action No. 1:00cv416, (S.D. Miss.), was lodged with the United States v. Synergy Development, Inc. on August 31, 2000. This proposed Consent Decree concerns a complaint filed by the United States against Synergy Development, Inc., pursuant to sections 301(a) and 404 of the Clean Water Act, 33 U.S.C. 1311(a) and 1344 and imposes civil penalties against the Defendants for the unauthorized discharge of dredged or fill material into waters of the United States in connection with the construction of a detention pond off Popps Ferry Road, Biloxi, Harrison County, Mississippi.

The proposed Consent Decree requires the payment of civil penalties in the amount of $75,000 and prohibits the discharge of pollutants into the waters of the United States.

The Department of Justice will accept written comments relating to this proposed Consent Decree for thirty (30) days from the date of publication of this notice. Please address comments to Crockett Lindsey, United States Attorney's Office, 808 Vieux Marche 2nd Floor, Biloxi, Mississippi 39530 and refer to United States v. Synergy Development, Inc.

The proposed Consent Decree may be examined at the Clerk's Office, United States District Court for the Southern District of Mississippi, 725 Martin Luther King, Jr. Blvd. Suite 243, Biloxi Mississippi 39530.

Dated: September 5, 2000.
Brad Pigott,
U.S. Attorney,
Crockett Lindsey,
(MSB 1265), Assistant United States Attorney, 808 Vieux Marche, 2nd Fl., Biloxi, MS 39530, (228) 432-5521.

[FR Doc. 00-24602 Filed 9-25-00; 8:45 am]

BILLING CODE 4410-15-M